DEPARTMENT OF THE INTERIOR

National Park Service

[NPS-WASO-NAGPRA-NPS0026440; PPWOCRADN0-PCU00RP14.R50000]

Notice of Inventory Completion: Fowler Museum at the University of California Los Angeles, Los Angeles, CA; Correction

AGENCY: National Park Service, Interior.

ACTION: Notice; correction.

SUMMARY: The Fowler Museum at the University of California Los Angeles (UCLA) has corrected an inventory of human remains and associated funerary objects, published in a Notice of Inventory Completion in the Federal Register on January 27, 2016. This notice corrects the minimum number of individuals. Lineal descendants or representatives of any Indian Tribe or Native Hawaiian organization not identified in this notice that wish to request transfer of control of these human remains should submit a written request to the Fowler Museum at UCLA. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Fowler Museum at UCLA at the address in this notice by November 19, 2018.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the correction of an inventory of human remains under the control of the Fowler Museum at UCLA, Los Angeles, CA. The human remains were removed from Los Angeles County, CA.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (81 FR 4659-4662, January 27, 2016). A re-inventory discovered more human remains than was previously recorded. Transfer of control of the items in this correction notice has not occurred.

Correction

In the Federal Register (81 FR 4660, January 27, 2016), column 1, paragraph 1, sentence 1 is corrected by substituting the following sentence:

In 1981 and 1984, human remains representing, at minimum, four individuals were removed from Playa del Rey Site #2 (CA-LAN-61), also known as the Loyola Marymount Site, in Los Angeles County, CA.

In the Federal Register (81 FR 4660, January 27, 2016), column 1, paragraph 1, sentence 2 is corrected by substituting the following sentence:

The site was surface collected by Vincent Lambert and excavated by the Archeological Associates of Sun City.

In the Federal Register (81 FR 4660, January 27, 2016), column 1, paragraph 1, sentence 6 is corrected by substituting the following sentence:

One adult individual represented by burned cranial and limb fragment, two juvenile individuals of unknown sex are represented by a single tooth each, and one infant individual represented by a molar were identified.

In the Federal Register (81 FR 4660, January 27, 2016), column 1, paragraph 2, sentence 1 is corrected by substituting the following sentence:

In 1981 and 1986, human remains representing, at minimum, 13 individuals were removed from Playa del Rey Site #4 (CA-LAN-63), also known as The Del Rey Site, in Los Angeles County, CA.

In the Federal Register (81 FR 4660, January 27, 2016), column 1, paragraph 2, sentence 2 is corrected by substituting the following sentence:

The site was surface collected by Vincent Lambert and excavated by the Archeological Associates of Sun City.

In the Federal Register (81 FR 4660, January 27, 2016), column 1, paragraph 2, sentence 6 is corrected by substituting the following sentence:

Fragmentary human remains represent two adults (some burned), one juvenile, and ten individuals that could not be identified to age or sex.

In the Federal Register (81 FR 4661, January 27, 2016), column 3, paragraph 1, sentence 1 is corrected by substituting the following sentence:

• Pursuant to 25 U.S.C. 3001(9), the human remains described in this notice represent the physical remains of 58 individuals of Native American ancestry based on metric and non-metric analysis.

Additional Requestors and Disposition

Lineal descendants or representatives of any Indian Tribe or Native Hawaiian organization not identified in this notice that wish to request transfer of control of these human remains should submit a written request with information in support of the request to Wendy G. Teeter, Ph.D., Fowler Museum at UCLA, Box 951549, Los Angeles, CA 90095-1549, telephone (310) 825-1864, email wteeter@arts.ucla.edu, by November 19, 2018. After that date, if no additional requestors have come forward, transfer of control of the human remains and associated funerary objects to the San Manuel Band of Mission Indians, California (previously listed as the San Manual Band of Serrano Mission Indians of the San Manual Reservation) may proceed.

The Fowler Museum is responsible for notifying the San Manuel Band of Mission Indians, California (previously listed as the San Manual Band of Serrano Mission Indians of the San Manual Reservation) that this notice has been published.

Dated: September 6, 2018.
Melanie O'Brien,
Manager, National NAGPRA Program.

[FR Doc. 2018-22791 Filed 10-18-18; 8:45 am]

BILLING CODE 4312-52-P